DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period April 23, 2003-May 19, 2003
Firm name | Address | Date petition accepted | Product
AMG, Inc | 301 Jefferson Ridge Parkway, Lynchburg, VA 24501 | 04/21/03 | Custom designed machined components for the telecommunications and fiber optic industries.
Butler Technologies, Inc | 231 West Wayne Street, Butler, PA 16001 | 05/19/03 | Commercial printer producing membrane switches and automobile gauges.
Dow Precision Hydraulics, Inc | 1835 Wright Avenue, La Verne, CA 91730 | 04/23/03 | Hydraulic parts for aircraft.
Du-Co Ceramics Company | 155 South Rebecca Street, Saxonburg, PA 16056 | 05/08/03 | Electrical ceramic insulators.
Eric Engebretsen dba F/A Humboldt | P.O. Box 534, Homer, AK 99603 | 04/29/03 | Salmon.
Garcia U-Pick Farms | P.O. Box 1640, San Elizario, TX 79849 | 05/19/03 | Chili pepper decorations.
Harold C. Haynes, dba F/V Chasina Bay | 148 Mattle Road, Ketchikan, AK 99901 | 05/19/03 | Salmon.
Martinez Manufacturing, Inc | 1175 Alexander Court, Cary, Il 60013 | 05/14/03 | Mobil phone earpieces, automotive wiring sets and appliance parts.
Materials Processing, Inc | 17423 W. Jefferson, Riverview, MI 48192 | 05/19/03 | Paints and lacquers for purchased automotive parts.
N. M. Sargents Sons, Inc | Potato Hill Rd., Industrial Park, Boonville, NY 13309 | 05/09/02 | Unfinished hardwood chairs primarily of maple.
Orbit Machining Company, Inc | 9440 Ainslie Street, Schiller Park, IL 60176 | 05/14/03 | Machined metal components of valves and metal rollers for industrial machinery.
PDT Holdings, Inc | 600 Heathrow Drive, Lincolnshire, IL 60069 | 05/01/03 | Injection molds for plastics and dies for die castings.
Pro-Mold, Inc | 350 Buell Road, Rochester, NY 14624 | 05/09/03 | Injection and compression molds for rubber and plastic.
Peak Industries, Inc | 4300 Road 18, Longmont, CO 80504 | 05/09/03 | Electro-medical instruments and appliances, recording devices, patient monitoring systems and optical instruments for inspecting semiconductor wafers.
R & M Apparel, Inc | 721 Donahue Street, Gallitzin, PA 16641 | 04/29/03 | Women's shirts and pants.
Robert L. Hall, dba F/V Sea Comber | P.O. Box 1284, Sitka, AK 99835 | 04/29/03 | Salmon.
Russell Cockrum, dba F/V Viking Maid | 4677 Tongass Highway, Ketchikan, AK 99901 | 05/19/03 | Salmon.
Sandy Farms, Inc | 34500 SE Highway 211, Boring, OR 97009 | 04/29/03 | Blackberries.
Sooner Trailer Manufacturing Company, Inc | 1515 McCurdy Road, Duncan, OK 23533 | 05/12/03 | Trailers for transporting animals.
Spico, Inc | 1099 Morgan Road, Meadville, PA 16335 | 05/12/03 | Molds and tooling used in Village the plastics industry.
Star Printing Company | 107 North Flores, Rio Grande City, TX 78582 | 04/28/03 | Men's T-shirts.
TAM Metal Products, Inc | 55 Whitney Road, Mahwah, NJ 07430 | 05/09/03 | Precision fabricated metal products.
Taylor Valve Technology, Inc | 8400 SW 8th Street, Oklahoma City, OK 73128 | 04/23/03 | Safety relief valves.
Value Company, Inc | 1252 County Road 106, Fayette, AL 35555 | 04/29/03 | Dies for drawing or extruding metal, with and without diamonds.
Waltco Engineering Company | 401 West Redondo Beach Blvd., Gardena, CA 90248 | 04/23/03 | Precision machined components for wireless communications, aircraft and computer hardware.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: May 28, 2003.
Anthony J. Meyer,
Coordinator, Trade Adjustment and Technical Assistance.

[FR Doc. 03-14123 Filed 6-4-03; 8:45 am]

BILLING CODE 3510-24-P